DEPARTMENT OF HEALTH AND HUMAN SERVICES

Centers for Disease Control and Prevention

Disease, Disability, and Injury Prevention and Control

Special Emphasis Panels (SEP): Centers of Excellence in Health Marketing and Health Communication, Program Announcement #CD 05 108

In accordance with Section 10(a)(2) of the Federal Advisory Committee Act (Pub. L. 92-463), the Centers for Disease Control and Prevention (CDC) announces the following meeting:

Name: Disease, Disability, and Injury Prevention and Control Special Emphasis Panel (SEP): Centers of Excellence in Health Marketing and Health Communication, Program Announcement #CD 05 108.

Times and Dates: 7:30 p.m.-10:30 p.m., August 8, 2005 (Closed). 8 a.m.-5:30 p.m., August 9, 2005 (Closed).

Place: Renaissance Concourse Hotel, One Hartsfield Centre Parkway, Atlanta, GA 30354, Telephone Number 404.209.9999.

Status: The meeting will be closed to the public in accordance with provisions set forth in Section 552b(c) (4) and (6), Title 5 U.S.C., and the Determination of the Director, Management Analysis and Services Office, CDC, pursuant to Public Law 92-463.

Matters to be Discussed: The meeting will include the review, discussion, and evaluation of applications received in response to: Centers of Excellence in Health Marketing and Health Communication, Program Announcement #CD 05 108.

Contact Person for More Information: Mary Lerchen DrPH, MS, Assistant Director for Research Practices and Peer Review, Office of Public Health Research, 1600 Clifton Road NE., Mailstop D-72, Atlanta, GA 30333, Telephone 404.371.5282.

The Director, Management Analysis and Services Office, has been delegated the authority to sign Federal Register notices pertaining to announcements of meetings and other committee management activities, for both CDC and the Agency for Toxic Substances and Disease Registry.

Dated: July 1, 2005.
Alvin Hall,
Director, Management Analysis and Services Office, Centers for Disease Control and Prevention.

[FR Doc. 05-13619 Filed 7-11-05; 8:45 am]

BILLING CODE 4163-18-P